NUCLEAR REGULATORY COMMISSION

Advisory Committee on Reactor Safeguards (ACRS); Meeting of the ACRS Subcommittee on Reliability and Probabilistic Risk Assessment; Notice of Cancellation of Meeting

The ACRS Subcommittee meeting on Reliability and Probabilistic Risk Assessment scheduled for April 18, 2008 has been cancelled. This meeting was published previously in the Federal Register on Monday, March 24, 2008 (73 FR 15543).

For further information contact the Designated Federal Official Dr. Hossein P. Nourbakhsh, (Telephone: 301-415-5622) between 7:30 a.m. and 4:15 p.m. (ET).

Dated: April 14, 2008.
Cayetano Santos,
Branch Chief, ACRS.

[FR Doc. E8-8548 Filed 4-18-08; 8:45 am]

BILLING CODE 7590-01-P